DEPARTMENT OF THE INTERIOR

Fish and Wildlife Service

[Docket No. FWS-R4-ES-2024-0062; FXES1114040000-245-FF04EF4000]

Renewal of an Incidental Take Permit for the Sand Skink and Blue-Tailed Mole Skink; Polk County, FL; Categorical Exclusion

AGENCY: Fish and Wildlife Service, Interior.

ACTION: Notice of availability; request for comments.

SUMMARY: We, the Fish and Wildlife Service (Service), announce receipt of an application from Nucor Steel Florida, Inc. (applicant) for a renewal of an incidental take permit (ITP) under the Endangered Species Act. If granted, the renewed ITP would authorize take of the federally listed sand skink (Neoseps reynoldsi) and blue-tailed mole skink (Eumeces egregious lividus) incidental to the construction of a metal recycling steel plant. The applicant requests the renewal of the ITP to extend the expiration date for 3 additional years in Polk County, Florida. There is no request for additional take or increases in development levels. The proposed time extension maintains the existing levels of take, but would extend the covered activities out to April 19, 2027, instead of April 19, 2024. We request public comment on the application, which includes the applicant's proposed habitat conservation plan (HCP), and the Service's preliminary determination that this ITP renewal qualifies as low-effect, categorically excluded, under the National Environmental Policy Act. To make this determination, we used our environmental action statement and low-effect screening form, both of which are also available for public review. We invite comment from the public and local, State, Tribal, and Federal agencies.

DATES: We must receive your written comments on or before June 12, 2024.

ADDRESSES:

Obtaining Documents: The documents this notice announces, as well as any comments and other materials that we receive, will be available for public inspection online in Docket No. FWS-R4-ES-202X-0062; at https://www.regulations.gov.

Submitting Comments: If you wish to submit comments on any of the documents, you may do so in writing by one of the following methods:

• Online: https://www.regulations.gov. Follow the instructions for submitting comments on Docket No. FWS-R4-ES-2024-0062;

• U.S. mail: Public Comments Processing, Attn: Docket No. FWS-R4-ES-2024-0062; U.S. Fish and Wildlife Service, MS: PRB/3W, 5275 Leesburg Pike, Falls Church, VA 22041-3803.

FOR FURTHER INFORMATION CONTACT: Alfredo Begazo, by U.S. mail (see ADDRESSES), by telephone at 772-469-4234 or via email at alfredo_begazo@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of an application from Nucor Steel Florida, Inc. (applicant) for a renewal of incidental take permit (ITP) TE12906D-0 under the Endangered Species Act. The applicant requests the renewal of the ITP to extend the expiration date for 3 additional years in Polk County, Florida. The ITP would authorize take of the sand skink (Neoseps reynoldsi) and blue-tailed mole skink (Eumeces egregious lividus) via destruction of these species' feeding, breeding, and sheltering habitat associated with commercial construction. The applicant's existing HCP provides measures to mitigate for the incidental take of the species. The proposed ITP extension will grant additional time to complete the metal recycling steel plant. The amendment to renew does not include any changes in the covered area, activity, amount or type of take, or species to be covered by the permit. We request public comment on the application, which includes the applicant's proposed habitat conservation plan (HCP), and on the Service's preliminary determination that this HCP qualifies as low-effect, categorically excluded, under the National Environmental Policy Act (NEPA; 42 U.S.C. 4231 et seq.). To make this determination, we used our environmental action statement and low-effect screening form, both of which are also available for public review.

Proposed Project

The applicant requests to extend the expiration date for three 3 additional years and does not include any other changes that alter the original review analyses by the Service. There is no request for additional take or increases in development levels; the proposed time extension maintains the existing levels of take but would extend the covered activities out to April 19, 2027, instead of April 19, 2024.

Our Preliminary Determination

The Service has made a preliminary determination that the applicant's project, extending the expiration date of the original ITP for 3 additional years, would individually and cumulatively have a minor or negligible effect on the covered species and the environment. Therefore, we have preliminarily concluded that renewal of the ITP for this project would qualify for categorical exclusion and that this action is low effect under our NEPA regulations at 43 CFR 46.205 and 46.210. A low-effect action is one that would result in (1) minor or negligible effects on federally listed, proposed, and candidate species and their habitats; (2) minor or negligible effects on other environmental values or resources; and (3) impacts that, when considered together with the impacts of other past, present, and reasonably foreseeable similarly situated projects, would not over time result in significant cumulative effects to environmental values or resources.

Next Steps

The Service will evaluate the application and the comments to determine whether to issue the requested permit. We will also conduct an intra-Service consultation pursuant to section 7 of the ESA to evaluate the effects of the proposed take. After considering the preceding and other matters, we will determine whether the permit issuance criteria of section 10(a)(1)(B) of the ESA have been met. If met, the Service will issue ITP number PER9460033 to Nucor Steel Florida, Inc.

Public Availability of Comments

Before including your address, phone number, email address, or other personal identifying information in your comment, be aware that your entire comment, including your personal identifying information, may be made available to the public. While you may request that we withhold your personal identifying information, we cannot guarantee that we will be able to do so.

Authority

The Service provides this notice under section 10(c) of the ESA (16 U.S.C. 1531 et seq.) and its implementing regulations (50 CFR 17.32), and NEPA (42 U.S.C. 4321 et seq.) and its implementing regulations (40 CFR 1506.6 and 43 CFR 46).

Robert L. Carey,
Division Manager, Environmental Review, Florida Ecological Services Office.

[FR Doc. 2024-10349 Filed 5-10-24; 8:45 am]

BILLING CODE 4333-15-P